DELAWARE RIVER BASIN COMMISSION

Notice of Commission Meeting and Public Hearing

Notice is hereby given that the Delaware River Basin Commission will hold an informal conference followed by a public hearing on Wednesday, December 7, 2005. The hearing will be part of the Commission's regular business meeting. Both the conference session and business meeting are open to the public and will be held at the Commission's office building, located at 25 State Police Drive in West Trenton, New Jersey.

The conference among the commissioners and staff will begin at 10:30 a.m. Topics of discussion will include presentations on the water supply plan for the State of Delaware; the initial report of the Delaware Toxics Reduction Program (DelTRiP); a status report on the dwarf wedge mussel habitat study under way in the Upper Basin; a report on PCB Minimization Plan submissions to date; and discussion regarding the composition and charges of the Peer Review Advisory Committee to be established for the purpose of evaluating pollutant minimization plans (PMPs) submitted in accordance with section 4.30.9 of the Water Quality Regulations.

The subjects of the public hearing to be held during the 1:30 p.m. business meeting include the dockets listed below:

1. North Penn Water Authority D-92-44 CP-3. An application for the renewal of a ground water withdrawal project to continue withdrawal of 280 million gallons per thirty days (mg/30 days) to supply the applicant's public water supply distribution system from 27 existing production wells, 11 emergency wells and 1 test well and to limit the total cumulative withdrawal from the wells and the applicant's Forest Park Potable Water Supply to 450 mg/30 days. The project is located in the East Branch Perkiomen, Perkiomen, Indian, Skippack, West Branch Skippack, Zacharias, Towamencin, Wissahickon, Three Mile Run, North Branch Neshaminy, West Branch Neshaminy and Pine Run watersheds in Franconia Township, Skippack Township, Lower Salford Township, Souderton Borough, Towamencin Township, Worcester Township, Lansdale Borough, Montgomery Township, Upper Gwynedd Township, East Rockhill Township, New Britain Township, Hatfield Township, Hilltown Township and New Britain Borough in Bucks and Montgomery counties, Pennsylvania and is located in the Southeastern Pennsylvania Ground Water Protected Area.

2. Perdue Farms Incorporated D-84-15-3. An application for the renewal of a ground water withdrawal project to continue withdrawal of 33 mg/30 days to supply the applicant's poultry processing facility from existing Wells Nos. 1 and 2 in the Minor Miocene Sand Formation. The project is located in the Mispillion River Watershed in the City of Milford, Kent County, Delaware.

3. Harry T. Hudson D-84-31-3. An application for renewal of a ground water withdrawal project to continue to supply up to 19.55 mg/30 days of water from Well No. 1, screened in the Columbia Formation, for supplemental irrigation of the applicant's 65-acre farm. The project is located in the Cedar Creek Watershed in Sussex County, Delaware.

4. United States Department of the Air Force, Dover Air Force Base D-2000-5-2. An application to replace the withdrawal of water from Well E in the applicant's water supply system, which has become an unreliable source of supply. The applicant requests that the total combined withdrawal from replacement Well F and existing Wells A-2, B, C-2, D, HA-1 and HA-2 remain limited to 56 mg/30 days. The project is located in the Piney Point and Cheswold Formations in the St. Jones River Watershed in the City of Dover, Kent County, Delaware.

5. Township of Maple Shade D-78-18 CP-2. An application for approval of a ground water withdrawal project to supply up to 54.0 mg/30 days of water to the applicant's public water supply distribution system from replacement Well No. 8A, and up to 54.0 mg/30 days from new Well No. 12 in the Middle and Lower Potomac—Raritan-Magothy Aquifers, respectively. No increase is proposed in the existing total allocation from all wells of 90 mg/30 days. The project is located in the Pennsauken Creek Watershed in Maple Shade Township, Burlington County, New Jersey.

6. Borough of Elmer D-85-24 CP-4. An application for the renewal of a ground water withdrawal project to continue withdrawal of 10 mg/30 days to supply the applicant's public water supply distribution system from existing Wells Nos. 6 and 8 in the Wenonah-Mt. Laurel Formation. The project is located in the Maurice River Watershed in the Borough of Elmer, Salem County, New Jersey.

7. E.I. du Pont de Nemours and Company D-85-32-3. An application for the renewal of a ground water and surface water withdrawal project to reduce the ground water withdrawal from 57.3 mg/30 days to 45 mg/30 days to supply the applicant's Repauno Plant from existing Wells Nos. 3R, 6 and 46 in the Raritan-Magothy Formation, to retain the maximum surface water withdrawal from the existing intake in the tidal Delaware River of 700 mg/30 days and to retain the combined maximum withdrawal for all sources at 745 mg/30 days. The project is located in the Delaware River Watershed in Greenwich Township, Gloucester County, New Jersey.

8. Pennsville Township Water Department D-2002-16 CP. An application for approval of a ground water withdrawal project to supply up to 18 mg/30 days of water to the applicant's public water distribution system from new Wells Nos. 7 and 8 in the Lower and Upper Raritan Formation, respectively, and to retain the existing withdrawal from all wells to 52.5 mg/30 days. The project is located in the Delaware River Watershed in Pennsville Township, Salem County, New Jersey.

9. Pennsylvania American Water Company D-87-31 CP-3. An application for renewal of a ground water withdrawal project to continue to supply up to 14.5 mg/30 days to the applicant's public water supply distribution system from existing Wells Nos. 1 through 5, located in the Catskill Formation. The project is located in the Hornbecks Creek Watershed in Delaware Township, Pike County, Pennsylvania in the drainage area of the Special Protection Waters.

10. Waynesborough Country Club D-92-9-2. An application for renewal of a ground water and surface water withdrawal project to continue to supply up to 6.0 mg/30 days of water for supplemental irrigation of the applicant's golf course from two existing wells in the Wissahickon Formation. The project is located in the Crum Creek Watershed in Easttown Township, Chester County, Pennsylvania.

11. Upper Frederick Township D-94-57 CP-2. An application for the renewal of a ground water withdrawal project to continue withdrawal of 2.01 mg/30 days to supply the applicant's public water supply system from existing Wells Nos. P-1 and P-2 in the Brunswick Formation. The project is located in the Goshenhoppen Creek Watershed in Upper Frederick Township, Montgomery County, Pennsylvania and is located in the Southeastern Pennsylvania Ground Water Protected Area.

12. Pocono Farms Water Company D-94-65 CP-2. An application for the renewal of a ground water withdrawal project to continue withdrawal of 15.75 mg/30 days to supply the applicant's public water supply distribution system from existing Wells Nos. 1, 2, 3, 4, 5 and 7 in the Polar Gap Formation. The project is located in the Tobyhanna Creek Watershed in Coolbaugh Township, Monroe County, Pennsylvania.

13. Jericho National Golf Course, Inc. D-95-2-2. An application for the renewal of a ground water and surface water withdrawal project to continue withdrawal of up to 9 mg/30 days to supply the applicant's golf course irrigation system from existing Wells B-100 and B-C in the Brunswick Formation. The ground water is pumped into a pond that also receives stormwater from the golf course, from which irrigation water is withdrawn as needed. The project is located in the Jericho Creek Watershed in Upper Makefield Township, Bucks County, Pennsylvania.

14. Warren County (Pequest River) Municipal Utilities Authority D-71-94 CP-3. An application to modify the existing docket to reflect modifications made to an existing 0.5 million gallon per day wastewater treatment plant (WWTP) to meet its National Pollutant Discharge Elimination System (NPDES) permit limits. The modifications consisted of the addition of advanced treatment facilities with no increase in treatment capacity. The WWTP is located at the northwest corner of the intersection of Delaware Drive and Greenwich Street in White Township, Warren County, New Jersey. The project will continue to serve the Town of Belvidere and a portion of White Township, both in Warren County, New Jersey. The WWTP continues to discharge to the Delaware River through the existing outfall, which is situated in the DRBC Special Protection Waters drainage of the Lower Delaware River Management Plan area.

15. Sybron Chemicals, Inc. D-85-5-3. An application for the renewal of a ground water withdrawal project to decrease withdrawal from 77 mg/30 days to 34 mg/30 days to supply the applicant's industrial facility from existing Wells Nos. 4, 5 and EQ106 in the Middle Raritan and Mt. Laurel/Wenonah Aquifers. The project is located in the West Branch Rancocas Watershed in Pemberton Township, Burlington County, New Jersey.

16. Burlington Township D-99-50 CP-2. An application for approval of a ground water withdrawal project to supply up to 43.2 mg/30 days of water to the applicant's public water supply system from new Well No. 8 and to increase the existing withdrawal from all wells to 155 mg/30 days. The project is located in the Potomac-Raritan-Magothy Formation in Burlington Township, Burlington County, New Jersey.

17. City of Bordentown D-2004-11 CP. An application for approval of a ground water withdrawal project to increase withdrawal from 90 mg/30 days to 96 mg/30 days to supply the applicant's public water distribution system supply from existing Wells Nos. 1, 2, 3, and 5 in the Potomac-Raritan-Magothy Formation in the Crosswicks Creek Watershed. The project is located in Hamilton Township, Mercer County; and in Bordentown Township and the City of Bordentown, Burlington County, all in New Jersey.

18. Hackettstown Municipal Utilities Authority D-2004-23 CP-1. An application for approval of a ground and surface water withdrawal project to supply up to 44 mg/30 days of water to the applicant's public supply distribution system from new Well No. 7 in the Kittatinny Limestone Formation, and to increase the existing withdrawal from all sources to 115 mg/30 days. The project is located in the Musconetcong River Watershed in the Town of Hackettstown, Warren County, New Jersey.

9. Sunoco, Inc. D-69-115-2. An application to modify a refinery WWTP discharge to the tidal Schuylkill River near its confluence with the Delaware River in Philadelphia, Pennsylvania. The docket holder is upgrading air pollution control equipment at its Girard Point Philadelphia Refinery, and the proposed Wet Gas Scrubbing System will increase Total Dissolved Solids (TDS) in the WWTP discharge. The docket holder proposes to increase its dry weather tertiary treatment plant flow and TDS discharges from 3.5 million gallons per day (mgd) and approximately 900 milligrams per liter (mg/l) respectively to 3.725 mgd and 3,939 mg/l. In support of its requested modifications, the docket holder has submitted an environmental study that indicates that the proposed changes would result in no significant impact to the Delaware Estuary in Water Quality Zone 4.

20. Pennsylvania Utility Company D-75-93-3. An application to modify a WWTP service area approved by DRBC Docket No. D-74-93 CP (Revised) in order to allow the plant to utilize its full treatment capacity of 0.25 mgd and discharge the effluent to an unnamed tributary of Little Bush Kill in the drainage area of DRBC Special Protection Waters. The project is located at the Tamiment Resort and Country Club (the previous docket holder), off Old Bushkill Road in Lehman Township, Pike County, Pennsylvania. In addition to serving the Tamiment Resort, the project will serve the adjacent Mountain Laurel Center for the Performing Arts, also in Lehman Township. An upgrade of the WWTP's nitrate control process is also proposed. The WWTP outfall was relocated, with Pennsylvania Department of Environmental Protection (PADEP) approval, to a point on locally known Pond Run, just downstream of First Pond on the former Unity House property. Spray application of WWTP effluent on the golf course at Tamiment Resort was approved by PADEP for periods when the weather and ground conditions are suitable.

21. Mt. Airy #1, L.L.C. D-77-58-2. An application to modify a WWTP service area approved by DRBC Docket No. D-77-58; to reduce the treatment capacity from 0.225 mgd to 0.220 mgd; and to discharge the effluent to Forest Hills Run in the drainage area of DBRC Special Protection Waters. The project is located at the former Mount Airy Lodge property in Paradise Township, Monroe County, Pennsylvania. In addition to serving the former resort, the project will also serve the adjacent Stricklands Mountain Inn and Our Lady of the Poconos Convent, also in Paradise Township.

22. Melody Lakes Properties D-80-79-2. An application to modify a WWTP docket to reduce the treatment capacity from 0.075 (mgd to 0.072 mgd and to continue to discharge the effluent to an unnamed tributary to Tohickon Creek in the drainage area of DRBC Special Protection Waters. The treatment plant serves the Melody Lakes Country Club Estates mobile home park only. The project is located in Richland Township, Bucks County, Pennsylvania.

23. Lower Moreland Township Authority D-87-52 CP-2. An application to expand the 0.22 mgd Chapel Hill WWTP to process 0.279 mgd. The existing advanced secondary treatment process will be upgraded to tertiary by the addition of a chemical treatment process to remove phosphorus. Following ultraviolet light disinfection, WWTP effluent will be discharged to an unnamed tributary of Southampton Creek, tributary to the Pennypack Creek through the existing outfall. The WWTP is located just south of the Pennsylvania Turnpike, near its intersection with County Line Road in Lower Moreland Township, Montgomery County, Pennsylvania. The WWTP will continue to serve portions of Lower Moreland Township, Montgomery County and Upper Southampton Township, Bucks County, both in Pennsylvania.

24. Township of Amity D-90-78 CP-2. An application to modify the existing docket to reflect modifications made to a WWTP to meet new NPDES permit limits and to handle wet weather flow surges. The WWTP has been modified to provide for an increase in treatment capacity from 1.6 mgd to 2.2 mgd. Ownership of the facility has been transferred from Amity Township Municipal Authority to the Township of Amity. The WWTP is located approximately one-half mile south of the intersection of U.S. Route 422 and State Route 662 in the southeast corner of Amity Township. In an effort to expedite the extension of sewer lines to local areas that are served by failing on-lot septic systems, Amity Township has also requested an emergency action by the DRBC to approve rerating of the plant's treatment capacity. The WWTP serves Amity, Earl, Douglass, Union and Exeter Townships, all in Berks County, Pennsylvania. The WWTP provides advanced treatment of wastewater and discharges to the Schuylkill River in an area conditionally designated by DRBC as “Modified Recreational”.

25. Delaware Valley College D-94-50 CP-2. An application for the renewal of a ground water withdrawal project to increase withdrawal from 3 mg/30 days to 6.135 mg/30 days to supply the applicant's college community supply distribution system and irrigation demands from existing Wells Nos. 1, 3, 4, 5 and 6 and new Well No. 7 in the Neshaminy Creek Watershed. The project is located in Doylestown Township and New Britain Borough, Bucks County, Pennsylvania and is located in the Southeastern Pennsylvania Ground Water Protected Area.

26. Doylestown Township Municipal Authority D-95-9 CP-2. An application for approval of an increase in ground water withdrawal from 45.9 mg/30 days to 51.0 mg/30 days of water to the applicant's public water supply distribution system from 14 existing wells, all located in the Stockton Formation. The project is located in the Neshaminy Creek and Pine Run watersheds in Doylestown Township, Bucks County, in the Southeastern Pennsylvania Ground Water Protected Area.

27. Nestle Waters North America, Inc. D-98-27-2. A spring water renewal project to continue withdrawal of 9.0 mg/30 days to supply the applicant's bottled water operations from Hoffman Springs Nos. 1, 2 and 3 in the Ontelaunee Creek Watershed. This project further provides for a change in the operating passby flow condition and monitoring requirements associated with the withdrawal. The project is located in Lynn Township, Lehigh County, Pennsylvania. (This was NAR'd as D-98-27 Renewal.)

28. Pennsylvania American Water Company D-98-43 CP-2. An application for approval of a ground water withdrawal project to supply up to 34.56 mg/30 days of water to the applicant's Penn Water District public water supply distribution system from new Well No. 28 in the Epler and Ontelaunee Formations, and to increase the combined allocation for all wells from 127 mg/30 days to 160.0 mg/30 days. The project includes 12 existing wells and an interconnection with the Western Berks Water Authority (0.9 mgd capacity). The project is located in the Little Cacoosing Creek Watershed in Lower Heidelberg Township; the Cacoosing Creek Watershed in Sinking Spring Borough, South Heidelberg and Spring townships; the Tulpehocken Creek Watershed in Spring Township; and the Wyomissing Creek Watershed in Spring Township, all in Berks County, Pennsylvania.

29. East Marlborough Township D-2000-43 CP-2. An application to rerate a 0.29 mgd sewage treatment plant (STP) to its design capacity of 0.44 mgd, while continuing to provide secondary level of treatment. The rerated plant will continue to serve predominately residential customers in East Marlborough Township and Kennett Township, both in Chester County, Pennsylvania. The STP is located north of Street Road (Route 926), approximately 1,500 feet west of Route 82 in East Marlborough Township. Nearby spray irrigation fields will continue to be used for STP effluent discharge. The project is located in the drainage area of the West Branch Red Clay Creek in DRBC Water Quality Zone C5, but no surface water discharge is proposed.

30. Mount Pocono Municipal Authority D-2001-51 CP. An application to expand a 0.4 mgd STP to process 0.6 mgd and continue to provide tertiary level treatment via the sequencing batch reactor process and filtration. The plant will continue to serve Mount Pocono Borough and a portion of Coolbaugh Township, both in Monroe County, Pennsylvania. Because the project is located in the drainage area to the Delaware River Basin Commission (DRBC) Special Protection Waters, a nonpoint source pollution control plan is required. STP effluent will continue to discharge to Forest Hills Run in the Paradise Creek Watershed, about 1,000 feet upstream of the State Route 611 bridge in Mount Pocono Borough.

31. Alfred Moor, III D-2005-21-1. An application for approval of a ground water withdrawal project to supply up to 98.5 mg/30 days of water to the applicant's agricultural irrigation project from Wells Nos. 1, 2, 3, 4, 5, 6, 7, 8 and 9 in the Cheswold Formation. The water will be used to irrigate approximately 605 acres of corn, soybeans and wheat. The project is located in the Leipsic River Watershed in the Town of Smyrna, Kent County, Delaware.

32. Elk Township Municipal Utilities Authority D-99-75 CP. An application for approval of a ground water withdrawal project to supply up to 7.45 mg/30 days of water to the applicant's public water supply distribution system from new Wells Nos. 1 and 2 in the Cohansey Formation. The project is located in Elk Township, Gloucester County, New Jersey.

33. Borough of Buena Municipal Utilities Authority D-2002-37 CP. An application for approval of a ground water withdrawal project to supply up to 17.23 mg/30 days of water to the applicant's public water supply distribution system from new Well No. 3 in the Piney Point Formation. The project well is located at the headwaters of Cedar Branch Creek, Maurice River Watershed in Buena Borough, Atlantic County, New Jersey.

34. Kresson Golf Course D-2002-39. An application to withdraw up to 5.9 million gallons/month from Cedar Lake on Barton Run in the Southwest Branch Rancocas Creek Watershed. A yearly restriction of 22 million gallons will also be imposed by the New Jersey Department of Environmental Protection (NJDEP) for irrigation of approximately 57 acres of the golf course via its existing surface water intake. The golf course is located 1.5 miles north of the intersection of State Route 73 and Cooper Road in Voorhees Township, Camden County, New Jersey.

35. Resorts USA, Inc. D-96-9 CP. An application for approval of a ground water withdrawal project to supply up to 15.98 mg/30 days of water to the applicant's Fernwood water system from new Well No. 9, and to increase the existing withdrawal limit of 9.8 mg/30 days from all wells to 18.4 mg/30 days. The project is located in the Bushkill Watershed in Middle Smithfield Township, Monroe County, Pennsylvania.

36. Woodbridge Golf Club, Inc. D-2005-5-1. An application for approval of a ground water withdrawal project to supply up to 4.3 mg/30 days of water for supplemental irrigation of the applicant's proposed golf course from New Wells IW-1, IW-3, IW-4 and IW-5, all in the Weisenberg Member Formation. In conjunction with the ground water withdrawal, the golf course will also utilize supplemental irrigation from stormwater collected in three on-site storage ponds. The project is located in the Schaefer Run Watershed in Maxatawny Township, Berks County and Weisenberg Township, Lehigh County, Pennsylvania. The project is located within the drainage area of DRBC Special Protection Waters.

In addition to the public hearing on the dockets listed above, the Commission's 1:30 p.m. business meeting will include public hearings pertaining to: A resolution amending the Basin Regulations—Water Supply Charges regarding certificates of entitlement; a resolution renaming the Flow Management Technical Advisory Committee and modifying its membership, and a resolution to Approve the Commission's FY 2007 Budget and Work Plan. The Commission also will consider resolutions: Directing the Executive Director to secure from the Regional Administrators of EPA Regions 2 and 3 their written concurrence as to the Zone 6 and Stage 2 water quality endpoints for the PCB TMDLs for the Delaware Estuary; extending the Commission's agreement with the Northeast-Midwest Institute for outreach to federal legislators; amending the Commission's investment policy statement of July 2001 to provide for investment in emerging international markets; and authorizing the Executive Director to engage a firm to evaluate the Commission's heating, ventilating, air conditioning and other power systems in order to identify and evaluate opportunities for improving efficiency and reducing cost.

The meeting will also include: Adoption of the Minutes of the September 26, 2005 business meeting; announcements; a report on basin hydrologic conditions; a report by the executive director; a report by the Commission's general counsel; and an opportunity for public dialogue. Draft dockets and the resolutions scheduled for public hearing on December 7, 2005 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission may accommodate your needs.

Dated: November 14, 2005.
Pamela M. Bush,
Commission Secretary.

[FR Doc. 05-22942 Filed 11-18-05; 8:45 am]

BILLING CODE 6360-01-P